ENVIRONMENTAL PROTECTION AGENCY

[ER-FRL-8988-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in Federal Register dated July 17, 2009 (74 FR 34754).

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

Draft EISs

EIS No. 20090210, ERP No. D-FRC-A03087-00, Ruby Pipeline Project, Proposed Natural Gas Pipeline Facilities, Right-of-Way Grants (and/or Temporary Use or Special Use Permits), WY, UT, NV, and OR.

Summary: EPA expressed environmental concerns about impacts to perennial waters, wetlands, and impacts related to hydrostatic pipeline testing. Rating EC2.

EIS No. 20090267, ERP No. D-AFS-J65546-MT, Bitterroot National Forest Travel Management Planning, To Address Conflicts between Motorized and Non-Motorized Users, Ravalli County, MT.

Summary: EPA expressed environmental concerns about impacts to watersheds and other resources. Rating EC2.

EIS No. 20090424, ERP No. D-USN-L11043-AK, Gulf of Alaska Navy Training Activities, Proposal to Support and Conduct Current, Emerging, and Future Training Activities, Implementation, Gulf of Alaska, AK.

Summary: EPA expressed environmental concerns about impacts to the marine environment from the deposition of expended training materials. Rating EC2.

EIS No. 20090211, ERP No. DS-AFS-J61114-CO, Vail Ski Area's 2007 Improvement Project, Proposed On-Mountain Restaurant from the top of Vail Mountain to Mid Vail, Special-Use-Permit, Eagle/Holy Cross Ranger District, White River National Forest, Eagle County, CO.

Summary: No formal comment letter was sent to the preparing agency. Rating NC.

Final EISs

EIS No. 20090224, ERP No. F-AFS-J65531-SD, Telegraph Project Area, Proposes to Implement Multiple Resource Management Actions, Northern Hills Ranger District, Black Hills National Forest, Lawrence and Pennington Counties, SD.

Summary: EPA continues to have environmental concerns about the need to develop a project level adaptive management plan.

EIS No. 20090406, ERP No. F-AFS-K65350-CA, Modoc National Forest Motorized Travel Management Plan, Implementation, National Forest Transportation System (NFTS), Modoc, Lassen and Siskiyou Counties, CA.

Summary: EPA continues to have environmental concerns about vernal pool and wet meadow impacts.

EIS No. 20090427, ERP No. F-NPS-F60009-MN, Disposition of Bureau of Mines Property, Twin Cities Research Center Main Campus, Implementation, Hennepin County, MN.

Summary: EPA commends the National Park Service for selecting the environmentally preferred alternative, and recommends that the Record of Decision clarify the future status of key cultural resources on site.

EIS No. 20090440, ERP No. F-AFS-J61114-CO, Vail Ski Area's 2007 Improvement Project, Proposed On-Mountain Restaurant from the top of Vail Mountain to Mid Vail, Special-Use-Permit, Eagle/Holy Cross Ranger District, White River National Forest, Eagle County, CO.

Summary: EPA does not object to the proposed action.

EIS No. 20090446, ERP No. F-AFS-K65373-NV, Jarbidge Ranger District Rangeland Management Project, Proposed Reauthorizing Grazing on 21 Existing Grazing Allotments, Humboldt Toiyabe National Forest, Elko County, NV.

Summary: EPA's previous concerns have been resolved; therefore, EPA does not object to the proposed action.

EIS No. 20090449, ERP No. F-AFS-F65076-MI, Niagara Project, To Address Site-Specific Vegetation and Transportation System Needs in the Project Areas, Hiawatha National Forest, St. Ignace and Sault Ste. Marie Ranger Districts, Mackinac and Chippewa Counties, MI.

Summary: EPA does not object to the proposed project.

Dated: February 2, 2010.
Robert W. Hargrove,
Director, NEPA Compliance Division, Office of Federal Activities.

[FR Doc. 2010-2572 Filed 2-4-10; 8:45 am]

BILLING CODE 6560-50-P